DEPARTMENT OF ENERGY

Federal Energy Regulatory Commission

[Docket No. CP03-336-000]

CenterPoint Energy Gas Transmission Company; Notice of Request Under Blanket Authorization

July 24, 2003.

Take notice that on July 17, 2003, CenterPoint Energy Gas Transmission Company (CEGT), 1111 Louisiana Street, Houston, Texas 77079 filed in Docket No. CP03-336-000 a request pursuant to §§ 157.205 and 157.216 of the Federal Energy Regulatory Commission's regulations (18 CFR 157.205 and 157.216) under the Natural Gas Act (NGA) for authorization to abandon by sale and transfer certain facilities in Coal and Pontotoc Counties in Oklahoma, under CEGT's blanket certificate issued in Docket Nos. CP82-384-000 and CP82-384-001, pursuant to section 7 of the NGA, all as more fully set forth in the application which is on file with the Commission and open to public inspection. This filing is available for review at the Commission or may be viewed on the Commission's Web site at http://www.ferc.gov using the “FERRIS” link. Enter the docket number excluding the last three digits in the docket number field to access the document. For assistance, please contact FERC Online Support atFERCOnlineSupport@ferc.gov or toll-free at (866) 208-3676, or for TTY, contact (202) 502-8659.

CEGT states that it intends to abandon, by sale and transfer at net book value to CenterPoint Energy Arkla (Arkla), Lines 635-14 and 634-16. CEGT asserts that Line 635-14 consists of 10,266 feet of 2-inch diameter (dia.) plastic pipe located in Coal County, Oklahoma and Line 634-16 consists of 373 feet of 1.3-inch dia. plastic pipe located in Pontotoc County, Oklahoma. CEGT states that Arkla will incorporate these lines into Arkla's existing low pressure distribution system in Oklahoma.

CEGT states that facilities were sold to Arkla at net book value at the time of sale, which was $18,571.18 on December 31, 2002.

Any questions concerning this request may be directed to: Lawrence O. Thomas, Director, Rate and Regulatory, CenterPoint Energy Gas Transmission Company, PO Box 21734, Shreveport, Louisiana 71151; Tel. (318) 429-2804, Fax (318) 429-3133.

Any person or the Commission's staff may, within 45 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to section 7 of the NGA.

Comments, protests and interventions may be filed electronically via the Internet in lieu of paper. See 18 CFR 385.2001(a)(1)(iii) and the instructions on the Commission's Web site under the “e-Filing” link. The Commission strongly encourages electronic filings.

Magalie R. Salas,
Secretary.

[FR Doc. 03-19380 Filed 7-30-03; 8:45 am]

BILLING CODE 6717-01-P